ENVIRONMENTAL PROTECTION AGENCY

40 CFR Parts 51, 52, 81, and 751

[FRL-12583-01-OA]

Delay of Effective Date for 4 Final Regulations Published by the Environmental Protection Agency Between November 29, 2024, and December 31, 2024

AGENCY: Environmental Protection Agency (EPA).

ACTION: Final rule; delay of effective dates.

SUMMARY: In accordance with the memorandum of January 20, 2025, from President Donald J. Trump, entitled “Regulatory Freeze Pending Review,” this action temporarily delays until March 21, 2025, the effective date of the regulations listed in the table below. EPA has initially identified 4 regulations that meet the criteria in the memo and may identify additional regulations in subsequent notices.

DATES: As of January 28, 2025, the effective date of the rules published at 89 FR 102568 (12/17/2024), 89 FR 95034 (11/29/2024), 89 FR 106357 (12/30/2024), and 89 FR 107012 (12/31/2024), are delayed to a new effective date of March 21, 2025.

FOR FURTHER INFORMATION CONTACT: William Nickerson, Director, Office of Regulatory Policy and Management, Office of Policy, Mail code 1804, U.S. Environmental Protection Agency, 1200 Pennsylvania Ave. NW, Washington, DC 20460; (202) 566-0326; nickerson.william@epa.gov.

SUPPLEMENTARY INFORMATION: EPA is taking this action in response to the memorandum of January 20, 2025, from the President, entitled “Regulatory Freeze Pending Review.” The memorandum directed the heads of Executive Departments and Agencies to consider postponing for sixty days from the date of the memorandum the effective date for any rules that have been published in the Federal Register but had not yet taken effect for the purpose of reviewing any questions of fact, law, and policy that the rules may raise. EPA is delaying the effective dates for the 4 regulations listed in the table below. The new effective date for these regulations is March 21, 2025.

The EPA is taking this action, without opportunity for public comment and effective immediately, based on the good cause exceptions in 5 U.S.C. 553(b)(B) and 553(d)(3), in that seeking public comment is impracticable, unnecessary and contrary to the public interest. The temporary delay in effective dates until March 21, 2025, is necessary to give Agency officials the opportunity for further review and consideration of new regulations, consistent with the memorandum of the President, dated January 20, 2025. Given the imminence of the effective dates of these regulations, seeking prior public comment on this temporary delay is impractical, as well as contrary to the public interest in the orderly promulgation and implementation of regulations. In addition, to the extent any regulation below is an interpretive rule, general statement of policy, or rule of agency organization, procedure, or practice, it is exempt from notice and comment under 5 U.S.C. 553(b)(A).

For the foregoing reasons, the good cause exception in 5 U.S.C. 553(d)(3) also applies to EPA's decision to make this action effectively immediately. Moreover, to the extent that extending the effective date of any of these rules would grant an exception or relieve a restriction, an exception also applies under 5 U.S.C. 553(d)(1).

Federal Register citation | Title | Publication date | Original effective date | New effective date
89 FR 102568 | Trichloroethylene (TCE); Regulation under the Toxic Substances Control Act (TSCA) | 12/17/2024 | ¹ 1/16/2025 | 3/21/2025
89 FR 95034 | Appendix W—Revisions to the Guideline on Air Quality Models | 11/29/2024 | 1/28/2025 | 3/21/2025
89 FR 106357 | Air Plan Approval; Illinois; Alton Township 2010 Sulfur Dioxide Redesignation and Maintenance Plan | 12/30/2024 | 1/29/2025 | 3/21/2025
89 FR 107012 | Air Plan Revisions; California; Feather River Air Quality Management District | 12/31/2024 | 1/30/2025 | 3/21/2025
¹ On December 17, 2024, EPA published a final rule under section 6(a) of the Toxic Substances Control Act (TSCA) (15 U.S.C. 2605(a)) to address the unreasonable risk of injury to health presented by trichloroethylene, with an effective date of January 16, 2025. Trichloroethylene (TCE); Regulation Under the Toxic Substances Control Act (TSCA), 89 FR 102568 (Dec. 17, 2024). Thirteen petitions for review of that rule were filed in various Circuits of the United States Courts of Appeals. On January 13, 2025, the Fifth Circuit Court of Appeals granted a petitioner's motion to temporarily stay the rule's effective date. The petitions were then consolidated by the Judicial Panel for Multidistrict Litigation and transferred to the Third Circuit Court of Appeals. By an order dated January 16, 2025, the Third Circuit left the temporary stay of the effective date in place pending briefing on whether the temporary stay of the effective date should remain in effect. Because of the decisions of the Fifth and Third Circuits, the rule never went into effect and is therefore also covered by the terms of the Regulatory Freeze Pending Review memorandum. Accordingly, the Agency includes this rule in this action.

Where appropriate, the Agency may consider further delaying the effective dates of the above-referenced regulations beyond March 21, 2025. If the Agency were to do so, consistent with the memorandum of the President, the Agency would consider whether to propose any later effective date for public comment.

James Payne,
Acting Administrator.

[FR Doc. 2025-01866 Filed 1-27-25; 8:45 am]

BILLING CODE 6560-50-P